DEPARTMENT OF THE INTERIOR

Bureau of Reclamation

Millerton Lake Resource Management Plan/General Plan (RMP/GP), Madera and Fresno Counties, CA

AGENCY: Bureau of Reclamation, Interior.

ACTION: Notice of availability of the draft Environmental Impact. Statement/Environmental Impact Report (EIS/EIR) and notice of public hearing.

SUMMARY: The Bureau of Reclamation (Reclamation), as the National Environmental Policy Act Federal lead agency, and the California Department of Parks & Recreation (CDPR), as the California Environmental Quality Act State lead agency, have made available for public review and comment the Millerton Lake draft EIS/EIR. The draft EIS/EIR describes and presents the environmental effects of the No-Action Alternative and three (3) Action Alternatives. A public hearing will be held to receive comments from individuals and organizations on the draft EIS/EIR.

DATES: Written comments on the draft EIS/EIR will be accepted on or before September 23, 2008.

A public hearing has been scheduled to receive oral or written comments regarding environmental effects. The hearing will be held from 6:30 p.m. to 9 p.m. on August 14, 2008 in Friant, CA.

ADDRESSES: Send written comments on the draft EIS/EIR to Mr. Robert Epperson, Bureau of Reclamation, 1243 N Street, Fresno, CA 93721.

The public hearing will be held at the Friant Learning Academy, 17200 Burroughs, Friant, CA 93626.

Copies of the draft EIS/EIR may be requested from Mr. Robert Epperson, by writing to Bureau of Reclamation, 1243 N Street, Fresno, CA 93721; by calling 559-269-4518 (TDD 559-487-5933); or by e-mailing repperson@mp.usbr.gov. The draft EIS/EIR is also accessible from the following Web site: http://www.usbr.gov/mp/millerton/docs/index.html. See SUPPLEMENTARY INFORMATION Section for locations where copies of the draft EIS/EIR are available for public review.

FOR FURTHER INFORMATION CONTACT: Mr. Robert Epperson, Bureau of Reclamation, at 559-269-4518 (TDD 559-487-5933) or repperson@mp.usbr.gov.

SUPPLEMENTARY INFORMATION: The draft EIS/EIR documents the direct, indirect, and cumulative effects to the physical, biological, and socioeconomic environment that may result from various resource management alternatives at Millerton Lake.

The Millerton Lake draft EIS/EIR evaluates the existing resource management of Millerton Lake. The project purpose consists of: (1) Identifying the current and most appropriate future uses of land and water resources within the Plan Area; (2) identifying the long-term resource programs and implementation guidelines to manage and develop recreation, natural, and cultural resources; and (3) developing strategies and approaches to protect and preserve the natural, recreational, aesthetic, and cultural resources.

Millerton Lake is an existing reservoir formed by Friant Dam, and located in Fresno and Madera Counties, CA. The dam, which regulates the normal flow of the San Joaquin River and stores floodwaters for irrigation diversion into the Friant-Kern and Madera Canals, was completed in 1947. Millerton Lake has a storage capacity of 520,500 acre-feet and a surface area of 4,900 acres. Through agreements with Reclamation and the California Department of Fish and Game, the CDPR manages the entire Plan Area.

The most recent General Plan for the Plan Area was completed by CDPR in 1983, and projected recreation trends and deficiencies through 1990. Since the adoption of this plan, several changes to the physical and regulatory environment have resulted in the need for an updated plan. The new joint Resource Management Plan/General Plan (RMP/GP) will have a planning horizon through the year 2035.

The new plan will: (1) Enhance natural resources and recreational opportunities without interrupting reservoir operations; (2) provide recreational opportunities to meet the demands of a growing, diverse population; (3) ensure recreational diversity and quality; (4) protect natural, cultural, and recreational sources while providing resource education opportunities and stewardship; and (5) provide updated management for establishing a new management agreement with the State of California.

The draft EIS/EIR outlines the formulation and evaluation of alternatives designed to address these issues through a representation of the varied interests at the Plan Area. The No Action Alternative would result in the continuation of current management practices. Action Alternative 1 (Recreation Expansion) emphasizes expanded recreation opportunities and includes additional campsites. Action Alternative 2 (Enhancement) balances natural and cultural resource protection and recreation opportunities. Action Alternative 3 (Resource Protection) emphasizes resource protection and limits some recreation opportunities.

The draft EIS/EIR has been developed within the authorities provided by Congress through the Reclamation Recreation Management Act of 1992 (Pub. L. 102-575, Title 28, 16 U.S.C. 460L) and other applicable agency and U.S. Department of Interior policies.

Copies of the draft EIS/EIR are available for public review at the following locations:

• Bureau of Reclamation, Mid-Pacific Region, Regional Library, 2800 Cottage Way, Sacramento, CA 95825.

• Bureau of Reclamation, South-Central California Area Office, 1243 N Street, Fresno, CA 93721.

• Millerton Lake State Recreational Area, 5290 Millerton Road, Friant, CA 93626.

• Fresno County Public Library, Central Location, 2420 Mariposa, Fresno, CA 93721.

• Madera County Public Library, Headquarters, 121 North G Street, Madera, CA 93637.

• Bureau of Reclamation, Denver Office Library, Building 67, Room 167, Denver Federal Center, 6th and Kipling, Denver, CO 80225.

• Natural Resources Library, U.S. Department of the Interior, 1849 C Street NW., Main Interior Building, Washington, DC 20240-0001.

Public Hearings

A brief presentation, including a project overview, will open the public hearing. This will be followed by an open house during which individual concerns and questions will be addressed through interaction with the project team.

If special assistance is required at the public hearings, please contact Mr. Robert Epperson at 559-269-4518, (TDD 559-487-5933), or by e-mailing repperson@mp.usbr.gov. Please notify Mr. Epperson as far in advance as possible to enable Reclamation to secure the needed services. If a request cannot be honored, the requestor will be notified.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: July 3, 2008.
John F. Davis,
Deputy Regional Director, Mid-Pacific Region.

[FR Doc. E8-17074 Filed 7-24-08; 8:45 am]

BILLING CODE 4310-MN-P